SECURITIES AND EXCHANGE COMMISSION

Proposed Collection; Comment Request

Upon Written Request, Copies Available From: Securities and Exchange Commission, Office of Filings and Information Services, Washington, DC 20549.

Extension: Rule 87; SEC File No. 270-474; OMB Control No. 3235-0552.

Notice is hereby given that, pursuant to the Paperwork Reduction Act of 1995 (44 U.S.C. 3501, et seq.), the Securities and Exchange Commission (“Commission”) is soliciting comments on the collection of information summarized below. The Commission plans to submit these existing collections of information to the Office of Management and Budget (“OMB”) for extension and approval.

Information relevant to Rule 87 (17 CFR 250.87) under the Public Utility Holding Company Act of 1935 (15 U.S.C. 79a et seq.) (“Act”) is required to be reported under Item 8 of Form U5-S. Item 8 of Form U5-S requires reporting of any recurring goods and service transactions in excess of $100,000 provided by an electric or gas utility to any associate company under Rule 87(a)(3). Item 8 of Form U5-S also requires reporting of any goods and service transactions in excess of $100,000 by any non-utility subsidiary to any associate company under Rule 87 (b)(1). It is estimated that the total number of respondents is 200. The average number of responses per respondent is 1 response annually. The burden of responding is accounted for primarily through Form U5-S. To account for administrative time, the Commission estimates that the total annual reporting burden under rule 87 is 1 hour per respondent.

These estimates of average burden hours are made solely for the purposes of the Paperwork Reduction Act and are not derived from a comprehensive or even a representative survey or study of the costs of SEC rules and forms. There is no requirement to keep the information in the forms confidential because it is public information.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 5th Street, NW., Washington, DC 20549.

Dated: January 9, 2004.
Margaret H. McFarland,
Deputy Secretary.

[FR Doc. 04-1075 Filed 1-16-04; 8:45 am]

BILLING CODE 8010-01-P